NATIONAL SCIENCE FOUNDATION

Notice of the Availability of Finding of No Significant Impact for a Low-Energy Marine Seismic Survey by the Scripps Institution of Oceanography on the Louisville Ridge in the Southwest Pacific Ocean

AGENCY: National Science Foundation.

ACTION: Notice of availability of a Finding of No Significant Impact for proposed activities in the Southwest Pacific Ocean.

SUMMARY: The National Science Foundation gives notice of the availability of a Finding of No Significant Impact for proposed activities in the Southwest Pacific Ocean.

The Division of Ocean Sciences in the Directorate for Geoscience (GEO/OCE) has prepared an Environmental Assessment of a marine geophysical survey by the Research Vessel Roger Revelle, in the vicinity of Louisville Ridge in the Pacific Ocean, January-February 2006. The proposed action is expected to result in substantial benefits to NSE-funded research in ocean science. The draft Environmental Assessment was available for public review for a 30-day period.

DATES: Comments on the FONSI must be submitted on or before December 9, 2005.

ADDRESSES: Copies of the Finding of No Significant Impact (FONSI) and the Environmental Assessment (EA) are available upon request from: Dr. Alexander Shor, National Science Foundation, Division of Ocean Sciences, 4201 Wilson Blvd., Suite 725, Arlington, VA 22230. Telephone: (703) 292-8583. Written comments should be submitted to this same address, or via email to ashor@msf.gov. The FONSI and EA are also available on the agency's Web site at http://www.nsf.gov/geo/oce/pubs/scripps_louisville&_ridge_EA.pdf and http://www.nsf.gov/geo/oce/pubs/scripps_louisville&_ridge_FONSI.pdf.

SUPPLEMENTARY INFORMATION: The National Science Foundation prepared a draft Environmental Assessment (EA) for a marine geophysical survey in the Pacific Ocean and solicited public comments (Federal Register): July 7, 2005, Vol. 70, No. 129, Page 39346). The National Science Foundation has prepared a Finding of No Significant Impact (FONSI) based on this EA, in accordance with CEQ regulations § 1500-1508 and 45 CFR 640. It was determined that the proposed activity would not result in a significant impact on the quality of the human environment within the meaning of the National Environmental Policy Act (NEPA) of 1969. Therefore, a FONSI was issued, and no environmental impact statement is required.

copies of the FONSI and the Environmental Assessment titled, Environmental Assessment of a Planned Low-Energy Marine Seismic Survey by the Scripps Institution of Oceanography on the Louisville Ridge in the Southwest Pacific Ocean, January-Februay 2006, are available upon request from: Dr. Alexander Shor, National Science Foundation, Division of Ocean Services, 4201 Wilson Blvd., Suite 725, Arlington, VA 22230. Telephone: (703) 292-8583 or at the agency's Web site at http://www.nsf.gov/geo/oce/pubs/scripps_louisville&_ridge_EA.pdf and http://www.nsf.gov/geo/oce/pubs/scripps_louisville&_ridge_FONSI.pdf.

The National Science Foundation invites interested members of the public to provide written comments on this FONSI.

Dated: November 3, 2005.
Dr. Alexander Shor,
Division of Ocean Sciences, National Science Foundation.

[FR Doc. 05-22302 Filed 11-08-05; 8:45 am]

BILLING CODE 7555-01-M